DEPARTMENT OF HEALTH AND HUMAN SERVICES

National Toxicology Program; Liaison and Scientific Review Office; Meeting of the NTP Board of Scientific Counselors Nanotechnology Working Group

AGENCY: National Institute of Environmental Health Sciences (NIEHS), National Institutes of Health (NIH)

ACTION: Meeting Announcement.

SUMMARY: The National Toxicology Program (NTP) established the Nanotechnology Working Group (“the NWG”) to the NTP Board of Scientific Counselors in 2005 to enhance public and stakeholder input into the NTP nanotechnology research program. The second meeting of the NWG is scheduled for March 15, 2006 at the Holiday Inn-Rosslyn at Key Bridge (1900 N Fort Myer Drive, Arlington, VA 22209). This meeting is open to the public with time scheduled for oral public comment. The NTP also invites written comments on any topic discussed at the meeting. A copy of the agenda and any additional information about the meeting will be posted on the NTP website when available (see NTP Web site http://ntp.niehs.nih.gov select “Meetings and Workshops”).

DATES: The working group meeting will be held March 15, 2006. The meeting will begin at 9 a.m. and end at approximately 4:30 p.m.

Comments: Written comments should be received by March 8, 2006, to allow time for adequate review before the meeting (see FOR FURTHER INFORMATION CONTACT below). Individuals wishing to make oral public comments are asked to contact Dr. Kristina Thayer (see FOR FURTHER INFORMATION CONTACT below) by March 8, 2006, and if possible, also to send a copy of the statement or talking points at that time.

Registration: Individuals who plan to attend are encouraged to register online at the NTP Web site http://ntp.niehs.nih.gov/ select “Meetings and Workshops.” Persons needing special assistance, such as sign language interpretation or other reasonable accommodation in order to attend, should contact 919-541-2475 voice, 919-541-4644 TTY (text telephone), through the Federal TTY Relay System at 800-877-8339, or by e-mail to niehsoeeo@niehs.nih.gov. Requests should be made at least 7 days in advance of the event.

ADDRESSES: The meeting will be held at the Holiday Inn-Rosslyn at Key Bridge (1900 N Fort Myer Drive, Arlington, VA 22209).

FOR FURTHER INFORMATION CONTACT: Correspondence should be submitted to Dr. Kristina Thayer (NIEHS, P.O. Box 12233, MD A3-01, Research Triangle Park, NC 27709; telephone: 919-541-5021, fax 919-541-0295; or e-mail: thayer@niehs.nih.gov).

SUPPLEMENTARY INFORMATION:

Background

In recent years, nanotechnology has become an increasing focus of U.S. and global research and development efforts. The NTP is developing a broad-based research program to address potential human health hazards associated with the manufacture and use of nanoscale materials. This research program will include studies of nanoscale materials that apply existing and novel toxicological methods to assess potential health effects associated with exposure to these materials. In order to enhance public and stakeholder input into this program, the NTP has established the NWG to provide a structured and formal mechanism for bringing stakeholders together to learn about NTP nanotechnology research related to public health, address issues related to that research, and promote dissemination of those discussions to other federal agencies, nanotechnology stakeholders, and the public. Additional information on the NWG, including charge and roster, is available at the NTP Web site (http://ntp.niehs.nih.gov/ select “Advisory Board & Committees”).

Preliminary Agenda

NTP Board of Scientific Counselors Nanotechnology Working Group (NWG),March 15, 2006, Holiday Inn-Rosslyn at Key Bridge, 1900 N Fort Myer Drive, Arlington, VA, 22209

9 a.m.

• Call to Order, Introductions, and Welcome

• U.S Federal Agency Efforts in Nanotechnology

• National Institute of Standards and Technology

• National Cancer Institute at Frederick—National Characterization Laboratory

12 p.m.—Lunch Break

1 p.m.

• Environmental Protection Agency

• Nanotechnology Environmental Health Working Group Research Needs Document

• National Toxicology Program Update

• Public Comment

• General Discussion

4:30 p.m.—Adjourn

Request for Comments

Public input at this meeting is invited. Each organization is allowed one time slot per agenda topic. At least 7 minutes will be allotted to each speaker, and if time permits, may be extended to 10 minutes. Registration for oral comments will also be available on-site, although time allowed for presentation by on-site registrants may be less than that for pre-registered speakers and will be determined by the number of persons who register at the meeting. If registering on-site and reading from written text, please bring 20 copies of the statement for distribution to the NWG and NIEHS/NTP staff and to supplement the record. Written comments received in response to this notice will be posted on the NTP website. Persons submitting written comments should include their name, affiliation, mailing address, phone, fax, e-mail, and sponsoring organization (if any) with the document.

Dated: December 5, 2005.
Samuel H. Wilson,
Deputy Director, National Institute of Environmental Health Sciences.

[FR Doc. E5-7409 Filed 12-15-05; 8:45 am]

BILLING CODE 4140-01-P